DEPARTMENT OF LABOR

Employment and Training Administration

[TA-W-61,003]

Yamaha Corporation of America, Grand Rapids, MI; Notice of Termination of Investigation

Pursuant to Section 221 of the Trade Act of 1974, an investigation was initiated on February 22, 2007, in response to a petition filed by a company official on behalf of workers at Yamaha Corporation of America, Grand Rapids, Michigan.

This petitioning group of workers is covered by an earlier petition (TA-W-60,996) filed on February 21, 2007 that is the subject of an ongoing investigation for which a determination has not yet been issued. Consequently, further investigation in this case would duplicate efforts and serve no purpose; therefore the investigation has been terminated.

Signed in Washington, DC, this 27th day of February 2007.
Elliott S. Kushner,
Certifying Officer, Division of Trade Adjustment Assistance.

[FR Doc. E7-4067 Filed 3-7-07; 8:45 am]

BILLING CODE 4510-FN-P